DEPARTMENT OF COMMERCE

Bureau of Industry and Security

Transportation and Related Equipment, Technical Advisory Committee; Notice of Open Meeting

The Transportation and Related Equipment Technical Advisory Committee will meet on May 18, 2005, 9:30 a.m., in the Herbert C. Hoover Building, Room 6087B, 14th Street between Pennsylvania & Constitution Avenues, NW., Washington, DC. The Committee advises the Office of the Assistant Secretary for Export Administration with respect to technical questions that affect the level of export controls applicable to transportation and related equipment or technology.

Agenda:

1. Opening remarks and introductions. Christiansen/Borman.

2. Identification of Duties and Election of TRANSTAC Chair.

3. Update on country-specific policies.

4. Update on policies and procedures.

5. Review of Wassenaar Arrangement and Technical Working Group issues.

6. Review of Missile Technology Control Regime Issues.

7. Update on Export Administration Regulations CCL Issues.

8. Update on status of US Munitions List Review.

9. Presentation of papers, proposals, and comments by the public.

10. Review of new and open action items.

The meeting will be open to the public and a limited number of seats will be available. Reservations are not accepted. To the extent time permits, members of the public may present oral statements to the Committee. Written statements may be submitted at any time before or after the meeting. However, to facilitate distribution of public presentation materials to Committee members, the Committee suggests that you forward your public presentation materials to Yvette Springer at Yspringer@bis.doc.gov.

For more information, call Ms. Springer on (202) 482-4814.

Dated: April 26, 2005.
Yvette Springer,
Committee Liaison Officer.

[FR Doc. 05-8908 Filed 5-3-05; 8:45 am]

BILLING CODE 3510-JT-M